DEPARTMENT OF TRANSPORTATION

Federal Aviation Administration

14 CFR Part 39

[Docket No. 2003-NE-26-AD; Amendment 39-13409; AD 2003-26-11]

RIN 2120-AA64

Airworthiness Directives; General Electric Company (GE) CF6-80E1A2 and -80E1A4 Turbofan Engines

AGENCY: Federal Aviation Administration (FAA), DOT.

ACTION: Final rule; request for comments.

SUMMARY: The FAA is adopting a new airworthiness directive (AD) for General Electric Company (GE) CF6-80E1A2 and -80E1A4 turbofan engines with left vertical link bolts part number (P/N) 1304M26P02 installed, and pylon attachment bolts originally torqued to 450-500 lb ft. This AD requires reducing the torque of pylon attachment bolts, and replacing left vertical link bolts with life-limited serialized bolts. This AD results from revised analyses by the airframe manufacturer of loads on the forward engine mount. We are issuing this AD to prevent engine separation that could result from a reduction of engine mount structural integrity due to failure of pylon attachment bolts or vertical link bolts.

DATES: Effective February 5, 2004. The Director of the Federal Register approved the incorporation by reference of certain publications listed in the regulations as of February 5, 2004.

We must receive any comments on this AD by March 8, 2004.

ADDRESSES: Use one of the following addresses to submit comments on this AD:

• By mail: The Federal Aviation Administration (FAA), New England Region, Office of the Regional Counsel, Attention: Rules Docket No. 2003-NE-26-AD, 12 New England Executive Park, Burlington, MA 01803-5299.

• By fax: (781) 238-7055.

• By e-mail: 9-ane-adcomment@faa.gov.

You can get the service information referenced in this AD from General Electric Company via Lockheed Martin Technology Services, 10525 Chester Road, Suite C, Cincinnati, Ohio 45215; telephone (513) 672-8400; fax (513) 672-8422.

You may examine the AD docket, by appointment, at the FAA, New England Region, Office of the Regional Counsel, 12 New England Executive Park, Burlington, MA. You may examine the service information, by appointment, at the FAA, New England Region, Office of the Regional Counsel, 12 New England Executive Park, Burlington, MA; or at the Office of the Federal Register, 800 North Capitol Street, NW., suite 700, Washington, DC.

FOR FURTHER INFORMATION CONTACT: Karen Curtis, Aerospace Engineer, Engine Certification Office, FAA, Engine and Propeller Directorate, 12 New England Executive Park, Burlington, MA 01803-5299; telephone (781) 238-7192; fax (781) 238-7199.

Airbus Industrie has revised their analyses of Airbus A330-200 and A330-300 airplane forward engine mount loads. The revised analyses predict higher loads than the loads used in the original certification of the engine. The increased loads, in combination with the originally specified pylon attachment bolt torque, result in a reduced low-cycle-fatigue (LCF) life capability for the pylon attachment bolts. The increased load also results in a reduced LCF life capability for the left vertical link bolts. This AD requires reducing the torque of pylon attachment bolts, and replacing left vertical link bolts with life-limited serialized bolts. These actions restore the forward engine mount structural integrity.

Relevant Service Information

We have reviewed and approved the technical contents of GE Alert Service Bulletin No. CF6-80E1 S/B 72-A0184, Revision 1, dated February 26, 2002, that describes procedures for reducing the torque on CF6-80E1A2 and -80E1A4 turbofan engine pylon attachment bolts.

FAA's Determination and Requirements of This AD

Although no airplanes that are registered in the United States use these GE CF6-80E1A2 and -80E1A4 turbofan engines, the possibility exists that the engines could be used on airplanes that are registered in the United States in the future. The unsafe condition described previously is likely to exist or develop on other GE CF6-80E1A2 and -80E1A4 turbofan engines of the same type design. We are issuing this AD to prevent engine separation that could result from a reduction of engine mount structural integrity due to failure of pylon attachment bolts or vertical link bolts. This AD requires reducing the torque of pylon attachment bolts, and replacing left vertical link bolts with life-limited serialized bolts. You must use the service information described previously to perform the bolt torque reduction required by this AD.

FAA's Determination of the Effective Date

Since there are currently no domestic operators of GE CF6-80E1A2 and -80E1A4 turbofan engines, notice and opportunity for public comment before issuing this AD are unnecessary. Therefore, a situation exists that allows the immediate adoption of this regulation.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Comments Invited

This AD is a final rule that involves requirements affecting flight safety and was not preceded by notice and an opportunity for public comment; however, we invite you to submit any written relevant data, views, or arguments regarding this AD. Send your comments to an address listed under ADDRESSES. Include “AD Docket No. 2003-NE-26-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov.

Examining the Docket

You may examine the AD Docket (including any comments and service information), by appointment, between 8 a.m. and 4:30 p.m., Monday through Friday, except Federal holidays. See ADDRESSES for the location.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-26-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-26-11 General Electric Company: Amendment 39-13409. Docket No. 2003-NE-26-AD.

Effective Date

(a) This airworthiness directive (AD) becomes effective February 5, 2004.

Affected ADs

(b) None.

Applicability

(c) This AD applies to General Electric Company (GE) CF6-80E1A2 and -80E1A4 turbofan engines with left vertical link bolts part number (P/N) 1304M26P02 installed, and pylon attachment bolts originally torqued to 450-500 lb ft. These engines are installed on, but not limited to Airbus Industrie A330-200 and A330-300 airplanes.

Unsafe Condition

(d) This AD is prompted by revised analyses of forward engine mount loads by the airframe manufacturer. We are issuing this AD to prevent engine separation that could result from a reduction of engine mount structural integrity due to failure of pylon attachment bolts or vertical link bolts.

Compliance

(e) You are responsible for having the actions required by this AD performed within the compliance cycles and times specified unless the actions have already been done.

Torque Reduction of Pylon Attachment Bolts

(f) For CF6-80E1A2 engines, reduce the pylon attachment bolt torque on each of the five bolts to 400-450 lb ft, before exceeding 7,160 cycles-since-new (CSN) or before exceeding 5,120 cycles-since-last-installation (CSLI), whichever is later. Use paragraph 3. of Accomplishment Instructions of Alert Service Bulletin (ASB) No. CF6-80E1 S/B 72-A0184, Revision 1, dated February 26, 2002, to reduce the torque.

(g) For CF6-80E1A4 engines, reduce the pylon attachment bolt torque on each of the five bolts to 400-450 lb ft, before exceeding 6,520 CSN or before exceeding 4,480 CSLI, whichever is later. Use paragraph 3. of Accomplishment Instructions of ASB No. CF6-80E1 S/B 72-A0184, Revision 1, dated February 26, 2002, to reduce the torque.

Replacement of Left Vertical Link Bolts

(h) For CF6-80E1A2 and -80E1A4 turbofan engines, remove the three left vertical link bolts, P/N 1304M26P02, and replace with three left vertical link bolts, P/N 1304M26P05, at next shop visit. Bolts P/N 1304M26P05 are serialized and have a calculated life limit published in the Life Limits section of Chapter 5 of the engine manual.

Definitions

(i) For the purpose of this AD, CSLI is defined as cycles since the engine was last installed on the pylon.

(j) For the purpose of this AD, next shop visit is defined as induction of the engine into a shop for any reason.

Alternative Methods of Compliance

(k) The Manager, Engine Certification Office, has the authority to approve alternative methods of compliance for this AD if requested using the procedures found in 14 CFR 39.19.

Material Incorporated by Reference

(l) You must use GE Alert Service Bulletin No. CF6-80E1 S/B 72-A0184, Revision 1, dated February 26, 2002, for reducing the bolt torque required by this AD. The Director of the Federal Register approved the incorporation by reference of this service bulletin in accordance with 5 U.S.C. 552(a) and 1 CFR part 51. You can get a copy from General Electric Company via Lockheed Martin Technology Services, 10525 Chester Road, Suite C, Cincinnati, Ohio 45215; telephone (513) 672-8400; fax (513) 672-8422. You can review a copy at the FAA, New England Region, Office of the Regional Counsel, 12 New England Executive Park, Burlington, MA; or at the Office of the Federal Register, 800 North Capitol Street, NW., suite 700, Washington, DC.

Related Information

(m) The Direction Generale de L'Aviation Civile, which is the airworthiness authority for France, issued AD 2001-556(B), which pertains to the subject of this AD.

Issued in Burlington, Massachusetts, on December 23, 2003.
Mark C. Fulmer,
Acting Manager, Engine and Propeller Directorate, Aircraft Certification Service.

[FR Doc. 04-144 Filed 1-5-04; 8:45 am]

BILLING CODE 4910-13-P